DEPARTMENT OF COMMERCE

National Oceanic and Atmospheric Administration

[I.D. 031401C]

Marine Mammals; File No. 731-1509.

AGENCY: National Marine Fisheries Service (NMFS), National Oceanic and Atmospheric Administration (NOAA), Commerce.

ACTION: Issuance of permit amendment.

SUMMARY: Notice is hereby given that Permit No. 731-1509-01, issued to Robin W. Baird, Ph.D., C201-2747 S. Kihei Road, Kihei, HI 96753, was amended.

ADDRESSES: (See SUPPLEMENTARY INFORMATION)

FOR FURTHER INFORMATION CONTACT: Jill Lewandowski or Trevor Spradlin, 301/713-2289.

SUPPLEMENTARY INFORMATION: On November 20, 2000, notice was published in the Federal Register (65 FR 69738) that a request for a scientific research permit amendment to take various cetacean species had been submitted by the above-named individual. After the comment period, the request was changed to only include an increase in suction cup tagging and incidental harassment takes of North Pacific humpback whales in Hawaii. All other permit amendment requests included in the above-referenced Federal Register notice were postponed from consideration until a later date.

The subject permit amendment has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit has been amended to increase the authorized takes for: (1) suction cup tagging of North Pacific humpback whales in Hawaii from 15 to 35 individual animals annually; and (2) incidental harassment of North Pacific humpback whales in Hawaii from 25 to 50 individual animals annually.

Issuance of this permit, as required by the ESA, was based on a finding that such permit (1) was applied for in good faith, (2) will not operate to the disadvantage of the endangered species which is the subject of this permit, and (3) is consistent with the purposes and policies set forth in section 2 of the ESA.

Documents may be reviewed in the following locations:

Permits and Documentation Division, Office of Protected Resources, NMFS, 1315 East-West Highway, Room 13130, Silver Spring, MD 20910 (301/713-2289);

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Regional Administrator, Southwest Region, NMFS, 501 West Ocean Blvd., Suite 4200, Long Beach, CA 90802-4213 (562/980-4027); and

Pacific Islands Area Office, National Marine Fisheries Service, NOAA, 1601 Kapiolani Boulevard, Suite 1110, Honolulu HI 96814-4700 (808/973-2935).

Dated: March 20, 2001.
Ann D. Terbush,
Chief, Permits and Documentation Division, Office of Protected Resources, National Marine Fisheries Service.

[FR Doc. 01-7540 Filed 3-26-01; 8:45 am]

BILLING CODE 3510-22-S